DEPARTMENT OF ENERGY

Federal Energy Regulatory Commission

Combined Notice of Filings #1

Take notice that the Commission received the following electric rate filings:

Docket Numbers: ER10-2806-008.

Applicants: TransAlta Energy Marketing (U.S.) Inc.

Description: Market: Triennial Market Power Update Analysis—Southeast Region to be effective 2/28/2024.

Filed Date: 12/29/23.

Accession Number: 20231229-5333.

Comment Date: 5 p.m. ET 2/27/24.

Docket Numbers: ER10-2818-008.

Applicants: TransAlta Energy Marketing Corporation.

Description: Market: TransAlta Energy Marketing Corp. submits tariff filing per 35.37: Triennial Market Power Update Analysis—Southeast Region to be effective 2/28/2024.

Filed Date: 12/29/23.

Accession Number: 20231229-5325.

Comment Date: 5 p.m. ET 2/27/24.

Docket Numbers: ER23-2003-003.

Applicants: Invenergy Nelson Expansion LLC.

Description: Tariff Amendment: Deficiency Letter Response to be effective 7/1/2023.

Filed Date: 1/2/24.

Accession Number: 20240102-5356.

Comment Date: 5 p.m. ET 1/23/24.

Docket Numbers: ER23-2721-000.

Applicants: Idaho Power Company.

Description: Idaho Power Company submits Average System Cost Rate Filing for Sales of Electric Power to the Bonneville Power Administration, FY 2024-2025.

Filed Date: 8/28/23.

Accession Number: 20230828-5434.

Comment Date: 5 p.m. ET 1/23/24.

Docket Numbers: ER24-48-001.

Applicants: Alabama Power Company, Georgia Power Company, Mississippi Power Company.

Description: Tariff Amendment: Alabama Power Company submits tariff filing per 35.17(b): Griffin Road (GASNF Solar) LGIA Deficiency Response to be effective 10/2/2023.

Filed Date: 1/2/24.

Accession Number: 20240102-5367.

Comment Date: 5 p.m. ET 1/23/24.

Docket Numbers: ER24-49-001.

Applicants: Alabama Power Company, Georgia Power Company, Mississippi Power Company.

Description: Tariff Amendment: Alabama Power Company submits tariff filing per 35.17(b): Baker Creek Solar LGIA Deficiency Response to be effective 9/28/2023.

Filed Date: 1/2/24.

Accession Number: 20240102-5322.

Comment Date: 5 p.m. ET 1/23/24.

Docket Numbers: ER24-792-000.

Applicants: PJM Interconnection, L.L.C.

Description: § 205(d) Rate Filing: Amendment of WMPA, Service Agreement No. 6731; Queue No. AE2-248 to be effective 2/28/2024.

Filed Date: 12/29/23.

Accession Number: 20231229-5348.

Comment Date: 5 p.m. ET 1/19/24.

Docket Numbers: ER24-793-000.

Applicants: Entergy Texas, Inc.

Description: § 205(d) Rate Filing: ETI-ETEC First Revised Coordination Services Agreement to be effective 2/27/2024.

Filed Date: 12/29/23.

Accession Number: 20231229-5358.

Comment Date: 5 p.m. ET 1/19/24.

Docket Numbers: ER24-794-000.

Applicants: PJM Interconnection, L.L.C.

Description: § 205(d) Rate Filing: Amendment to 2 Service Agreements re: FirstEnergy Reorganization to be effective 12/31/9998.

Filed Date: 12/29/23.

Accession Number: 20231229-5373.

Comment Date: 5 p.m. ET 1/19/24.

Docket Numbers: ER24-795-000.

Applicants: PJM Interconnection, L.L.C.

Description: § 205(d) Rate Filing: Amendment to 2 Service Agreements re: FirstEnergy Reorganization to be effective 12/31/9998.

Filed Date: 12/29/23.

Accession Number: 20231229-5382.

Comment Date: 5 p.m. ET 1/19/24.

Docket Numbers: ER24-796-000.

Applicants: Entergy Texas, Inc.

Description: § 205(d) Rate Filing: ETI-ETEC Second Revised LBA Agreement to be effective 2/27/2024.

Filed Date: 1/2/24.

Accession Number: 20240102-5000.

Comment Date: 5 p.m. ET 1/23/24.

Docket Numbers: ER24-797-000.

Applicants: PJM Interconnection, L.L.C.

Description: § 205(d) Rate Filing: Original CRA, Service Agreement No. 7158, Non-Queue No. NQ213 to be effective 12/1/2023.

Filed Date: 1/2/24.

Accession Number: 20240102-5128.

Comment Date: 5 p.m. ET 1/23/24.

Docket Numbers: ER24-798-000.

Applicants: Southwest Power Pool, Inc.

Description: § 205(d) Rate Filing: 1628R25 Western Farmers Electric Cooperative NITSA NOAs to be effective 12/1/2023.

Filed Date: 1/2/24.

Accession Number: 20240102-5211.

Comment Date: 5 p.m. ET 1/23/24.

Docket Numbers: ER24-799-000.

Applicants: Southwest Power Pool, Inc.

Description: § 205(d) Rate Filing: 1166R42 Oklahoma Municipal Power Authority NITSA and NOA to be effective 12/1/2023.

Filed Date: 1/2/24.

Accession Number: 20240102-5250.

Comment Date: 5 p.m. ET 1/23/24.

Docket Numbers: ER24-800-000.

Applicants: Alabama Power Company, Georgia Power Company, Mississippi Power Company.

Description: § 205(d) Rate Filing: Alabama Power Company submits tariff filing per 35.13(a)(2)(iii: Horus Alabama 1 (Alawest 1 Solar) LGIA Filing to be effective 12/15/2023.

Filed Date: 1/2/24.

Accession Number: 20240102-5307.

Comment Date: 5 p.m. ET 1/23/24.

Docket Numbers: ER24-801-000.

Applicants: Alabama Power Company, Georgia Power Company, Mississippi Power Company.

Description: § 205(d) Rate Filing: Alabama Power Company submits tariff filing per 35.13(a)(2)(iii: Horus Alabama 1 (Alawest 2 Solar) LGIA Filing to be effective 12/15/2023.

Filed Date: 1/2/24.

Accession Number: 20240102-5310.

Comment Date: 5 p.m. ET 1/23/24.

Docket Numbers: ER24-802-000.

Applicants: Alabama Power Company, Georgia Power Company, Mississippi Power Company.

Description: § 205(d) Rate Filing: Alabama Power Company submits tariff filing per 35.13(a)(2)(iii: Yellow Creek Solar LGIA Filing to be effective 12/15/2023.

Filed Date: 1/2/24.

Accession Number: 20240102-5311.

Comment Date: 5 p.m. ET 1/23/24.

Docket Numbers: ER24-803-000.

Applicants: Southwest Power Pool, Inc.

Description: § 205(d) Rate Filing: 4193 City of Paris NITSA NOA to be effective 12/1/2023.

Filed Date: 1/2/24.

Accession Number: 20240102-5339.

Comment Date: 5 p.m. ET 1/23/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 2, 2024.
Debbie-Anne A. Reese,
Deputy Secretary.

[FR Doc. 2024-00136 Filed 1-5-24; 8:45 am]

BILLING CODE 6717-01-P